DEPARTMENT OF TRANSPORTATION

National Highway Traffic Safety Administration

[Docket No. NHTSA-2010-0053]

Visual-Manual NHTSA Driver Distraction Guidelines for In-Vehicle Electronic Devices

AGENCY: National Highway Traffic Safety Administration (NHTSA), Department of Transportation (DOT).

ACTION: Announcement of public hearings.

SUMMARY: On February 24, 2012, NHTSA published proposed NHTSA Driver Distraction Guidelines (77 FR 11200). NHTSA is announcing a set of public hearings relating to these proposed Guidelines. The hearings will provide opportunities for the public to present oral testimony regarding the proposal.

DATES:

Hearings. NHTSA will hold three public hearings on the following dates: March 12, 2012, in Washington, DC; March 15, 2012, in Chicago, Illinois; and March 16, 2012, in Los Angeles, California. Each hearing will start at 9 a.m. and continue until 12 p.m., local time. If you would like to present oral testimony at one of the public hearings, please contact the person identified under FOR FURTHER INFORMATION CONTACT at least ten days before the hearing.

Written comments. As announced in the proposal, to be assured of consideration, written comments on the proposed NHTSA Guidelines must be received by April 24, 2012 (77 FR 11200).

ADDRESSES: Hearings. The March 12, 2012 hearing will be held at the U.S. Department of Transportation, West Building Ground Floor, Media Center—Room W11-130, 1200 New Jersey Avenue SE., Washington, DC 20590. The March 15, 2012 hearing will be held at the James R. Thompson Center, Room 16-503, 100 West Randolph Street, Chicago, IL 60601. The March 16, 2012 hearing will be held at West Los Angeles Field Office Federal Building, Ron Williams Memorial Conference Room—C-206, 11000 Wilshire Boulevard, Los Angeles, CA 90024. The hearings will be held at sites accessible to individuals with disabilities.

Written comments. As announced in the proposal, you may submit comments to the docket number identified in the heading of this document by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: 1200 New Jersey Avenue SE., West Building Ground Floor, Room W12-140, between 9 a.m. and 5 p.m. ET, Monday through Friday, except Federal holidays.

• Fax: 202-493-2251.

FOR FURTHER INFORMATION CONTACT: If you would like to present oral testimony at one of the public hearings, please contact Kristin J. Kingsley, Engineering Policy Advisor and Special Assistant to the Deputy Administrator, Telephone (202) 366-5729; Facsimile: (202) 366-0015; National Highway Traffic Safety Administration, 1200 New Jersey Avenue SE., Washington, DC 20590. Please contact Ms. Kingsley at least five days before the hearing date specified under DATES.

Please provide the following information: Name, affiliation, address, email address, telephone and fax numbers, and whether you require accommodations such as a sign language interpreter or translator.

For technical issues concerning the proposed NHTSA Guidelines, you may contact Dr. W. Riley Garrott, Vehicle Research and Test Center, telephone: (937) 666-3312, facsimile: (937) 666-3590. You may send mail to this person at: The National Highway Traffic Safety Administration, Vehicle Research and Test Center, P.O. Box B-37, East Liberty, OH 43319. You may learn more about the proposed NHTSA Guidelines by visiting the Department of Transportation's Web site on distracted driving, Distraction.gov, NHTSA's Web site, www.nhtsa.gov, or by searching the public docket (NHTSA-2010-0053) at www.regulations.gov.

SUPPLEMENTARY INFORMATION: The proposed NHTSA Guidelines are meant to promote safety by discouraging the introduction of excessively distracting devices in vehicles. These NHTSA Guidelines, which are voluntary, apply to communications, entertainment, information gathering, and navigation devices or functions that are not required to operate the vehicle safely and that are operated by the driver through visual-manual means (meaning the driver looking at a device, manipulating a device-related control with the driver's hand, and watching for visual feedback).

The proposed NHTSA Guidelines list certain secondary, non-driving related tasks that, based on NHTSA's research, are believed by the agency to interfere inherently with a driver's ability to safely control the vehicle. The Guidelines recommend that those in-vehicle devices be designed so that they cannot be used by the driver to perform such tasks while the driver is driving. For all other secondary, non-driving-related visual-manual tasks, the NHTSA Guidelines specify a test method for measuring the impact of task performance while driving on driving safety and time-based acceptance criteria for assessing whether a task interferes too much with driver attention to be suitable to perform while driving. If a task does not meet the acceptance criteria, the NHTSA Guidelines recommend that in-vehicle devices be designed so that the task cannot be performed by the driver while driving.

In addition to identifying inherently distracting tasks and providing a means for measuring and evaluating the level of distraction associated with other non-driving-related tasks, the NHTSA Guidelines set forth several design recommendations for in-vehicle devices in order to minimize their potential for distraction.

The proposed NHTSA Guidelines were published in the Federal Register on February 24, 2012 (77 FR 11200) and are available on the Web pages listed above under FOR FURTHER INFORMATION CONTACT and also in the rulemaking docket. The notice is also available at http://www.nhtsa.gov/staticfiles/rulemaking/pdf/Distraction_NPFG-02162012.pdf.

Background information concerning proposal in particular and the problem of distracted driving in general is available at http://www.nhtsa.gov/About+NHTSA/Press+Releases/2012/U.S.+Department+of+Transportation+Proposes+‘Distraction'+Guidelines+for+Automakers and at http://www.distraction.gov/.

Public Hearing Procedures. For planning purposes, each speaker should anticipate speaking for approximately ten minutes, although we may need to shorten that time if there is a large number of people wishing to make presentations. Once we learn how many people have registered to speak at each public hearing, we will allocate an appropriate amount of time to each participant, allowing time for necessary breaks. In addition, we will reserve a block of time for anyone else in the audience who wishes to give an oral presentation.

We request that you bring three copies of your statement or other material to the hearing for the NHTSA panel. To accommodate as many speakers as possible, we prefer that speakers not use technological aids (e.g., audio-visuals, computer slideshows). However, if you wish to do so, you must notify the contact person in the FOR FURTHER INFORMATION CONTACT section above. You must also make arrangements to provide your presentation or any other aids to NHTSA in advance of the hearing in order to facilitate set-up.

NHTSA will conduct the hearings informally. Thus, technical rules of evidence will not apply. We will arrange for a written transcript of each hearing. Presenters wishing to provide supplementary information should submit it to the address given above for written comments by the April 24th deadline for those comments. Panel members may ask clarifying questions during the oral presentations, but will not respond to the presentations at that time. You may make arrangements for copies of the transcripts directly with the court reporter. Written statements and supporting information submitted during the comment period will be considered with the same weight as oral comments and supporting information presented at the public hearings.

Issued on February 27, 2012.
David L. Strickland,
Administrator.

[FR Doc. 2012-5098 Filed 2-28-12; 4:15 pm]

BILLING CODE 4910-59-P